DEPARTMENT OF DEFENSE

Office of the Secretary

Board of Regents, Uniformed Services University of the Health Sciences; Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the Board, Board of Regents, Uniformed Services University of the Health Sciences (USU) will take place.

DATES: Tuesday, August 6, 2019 open to the public from 8:00 a.m. to 11:05 a.m. The closed session will follow from approximately 11:15 a.m. to 11:45 a.m.

ADDRESSES: Navy Lodge North Island, Naval Air Station North Island, San Diego, CA 92135.

FOR FURTHER INFORMATION CONTACT: MAJ Joshua Barricklow, Designated Federal Officer, at (301) 295-9805 or joshua.barricklow@usuhs.edu. Mailing address is 4301 Jones Bridge Road, Bethesda, MD 20814. Website: https://www.usuhs.edu/vpe/bor.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The purpose of the meeting is to provide advice and recommendations to the Secretary of Defense, through the USD(P&R), on academic and administrative matters critical to the full accreditation and successful operation of USU. These actions are necessary for USU to pursue its mission, which is to educate, train and comprehensively prepare uniformed services health professionals, officers, scientists, and leaders to support the Military and Public Health Systems, the National Security and National Defense Strategies of the United States, and the readiness of our Uniformed Services.

Agenda: The actions scheduled to occur include the review of any administrative matters of general consent (e.g., degree conferrals, faculty appointments and promotions, award recommendations, etc.) that may have been electronically voted on since the previous Board meeting on May 17, 2019; Board actions, to include recommendations for degree conferrals, faculty appointments and promotions, and faculty awards presented by the deans of USU's schools and colleges; a report by the USU President on recent actions affecting academic and operational aspects of USU; a member report covering an academics summary (consisting of reports from the Dean of the Hébert School of Medicine, the Dean of the Inouye Graduate School of Nursing, the Executive Dean of the Postgraduate Dental College, and the Dean of the College of Allied Health Sciences); a member report covering a finance and administration summary (consisting of reports from the Vice President of Research and the Vice President of Finance and Administration); and additional reports from the Senior Vice President of the Southern Region, the Senior Vice President of the Western Region, the Director of the Armed Forces Radiobiology Research Institute, the Commanding Officer of the USU Brigade, and the Vice President of External Affairs. A closed session will be held following the open session to discuss active investigations and personnel actions.

Meeting Accessibility: Pursuant to Federal statutes and regulations (5 U.S.C., Appendix, 5 U.S.C. 552b, and 41 CFR 102-3.140 through 102-3.165) and the availability of space, the meeting is open to the public from 8:00 a.m. to 11:05 a.m. Seating is on a first-come basis. Members of the public wishing to attend the meeting should contact Mr. Barricklow no later than five business days prior to the meeting at the address and phone number noted in the FOR FURTHER INFORMATION CONTACT section.

Pursuant to 5 U.S.C. 552b(c)(2, 5-7), the DoD has determined that the portion of the meeting from 11:15 a.m. to 11:45 a.m. shall be closed to the public. The USD(P&R), in consultation with the DoD Office of General Counsel, has determined in writing that this portion of the Board's meeting will be closed as the discussion will disclose sensitive personnel information, will include matters that relate solely to the internal personnel rules and practices of the agency, will involve allegations of a person having committed a crime or censuring an individual, and may disclose investigatory records compiled for law enforcement purposes.

Written Statements: Pursuant to section 10(a)(3) of the FACA and 41 CFR 102-3.140, the public or interested organizations may submit written comments to the Board about its approved agenda pertaining to this meeting or at any time regarding the Board's mission. Individuals submitting a written statement must submit their statement to Mr. Barricklow at the address listed in the FOR FURTHER INFORMATION CONTACT section. Written statements that do not pertain to a scheduled meeting of the Board may be submitted at any time. If individual comments pertain to a specific topic being discussed at the planned meeting, then these statements must be received at least five calendar days prior to the meeting. Otherwise, the comments may not be provided to or considered by the Board until a later date. The Designated Federal Officer will compile all timely submissions with the Board's Chair and ensure such submissions are provided to Board Members before the meeting.

Dated: July 10, 2019.
Aaron T. Siegel,
Alternate OSD Federal Register Liaison Officer, Department of Defense.

[FR Doc. 2019-14948 Filed 7-12-19; 8:45 am]

BILLING CODE 5001-06-P